DEPARTMENT OF COMMERCE

National Oceanic and Atmospheric Administration

[Docket No. 050412107-7004-03]

Ernest F. Hollings Undergraduate Scholarship Program

AGENCY: Office of Education (OEd), Office of the Undersecretary of Commerce for Oceans and Atmosphere (USEC), National Oceanic and Atmospheric Administration (NOAA), Commerce.

ACTION: Notice of scholarship opportunity.

SUMMARY: NOAA announces the Ernest F. Hollings Scholarship Program for FY 2007, and sets forth eligibility criteria and selection guidelines for the program. The Ernest F. Hollings Scholarship Program was established through the Consolidated Appropriations Act, 2005 (Public Law 108-447). This Scholarship Program will provide approximately 100 undergraduate applicants selected for the program with scholarships to participate in oceanic and atmospheric science, research, technology, and education. There is no guarantee that funds will be available to make awards to all qualified applicants.

DATES: Completed applications must be received by February 22, 2007, at 5 p.m. eastern standard time.

ADDRESSES: Applications for the Ernest F. Hollings Scholarship Program will be available through NOAA at http://www.oesd.noaa.gov/Hollings_info.html. If an applicant does not have Internet access, hardcopy applications may be requested by contacting NOAA Office of Education, Hollings Scholarship Program, 1315 East-West Highway, Room 10703, Silver Spring, MD 20910.

FOR FURTHER INFORMATION CONTACT: NOAA Hollings Scholarship at StudentScholarshipPrograms@noaa.gov or call 301-713-9437 x125.

SUPPLEMENTARY INFORMATION:

Background

The Ernest F. Hollings Scholarship Program was established through the Consolidated Appropriations Act, 2005 (Public Law 108-447). The purposes of the program include: (1) To increase undergraduate training in oceanic and atmospheric science, research, technology, and education and to foster multidisciplinary training opportunities; (2) to increase public understanding and support for stewardship of the ocean and atmosphere and to improve environmental literacy; (3) to recruit and prepare students for public service careers with the National Oceanic and Atmospheric Administration and other natural resource and science agencies at the Federal, State and local and tribal levels of government; and, (4) to recruit and prepare students for careers as teachers and educators in oceanic and atmospheric science and to improve scientific and environmental education in the United States.

The Hollings Scholarship Program will provide successful undergraduate applicants with awards that include academic assistance (up to a maximum of $8,000 per year) for full-time study during the 9-month academic year; a 10-week, full-time internship position ($650/week) during the summer at a NOAA facility; and, if reappointed, academic assistance (up to a maximum of $8,000) for full-time study during a second 9-month academic year. The internship between the first and second years of the award provides the Scholars with “hands-on” practical educational training experience in NOAA-related scientific, research, technology, policy, management, and education activities. Awards will also include travel expenses to attend a mandatory Hollings Scholarship Program orientation, approved conferences where students present a paper or poster, and a housing subsidy for scholars who do not reside at home during the summer internship.

Authority

The Ernest F. Hollings Undergraduate Scholarship Program is established by the Administrator of the National Oceanic and Atmospheric Administration under authority of the Consolidated Appropriations Act, 2005 (Public Law 108-447).

Funding Availability

Approximately $3.5 million may be available for the award of a maximum of 100 two-year scholarships, dependent on the availability of appropriations. There is no guarantee that funds will be available to provide scholarships for all qualified students.

Eligibility

Any undergraduate student who is a U.S. citizen; enrolled as a full-time student in the Fall 2007 as a junior, at an accredited college or university within the United States or U.S. Territories; possesses at least a 3.0 grade point average per semester/quarter and cumulative on a 4.0 scale (or equivalent on other identified scale) in all completed undergraduate courses and in their major field of study; and has declared a major in a NOAA-related discipline, including, but not limited to, oceanic, environmental, and atmospheric sciences, mathematics, engineering, remote sensing technology, marine policy, physical and social sciences including, geography, physics, hydrology, meteorology, oceanography or teacher education that support NOAA's programs and mission may apply to this notification.

The Hollings Scholarship Program will consider applications from all students that meet the above eligibility requirements.

Evaluation Criteria

Application will be evaluated based on the following criteria:

1. Relevant coursework (30%).

2. Education plan and statement of career interest (40%).

3. Recommendations and/or endorsements (reference forms) (20%).

4. Additional relevant experience related to diversity of education; extracurricular activities; honors and awards; non-academic and volunteer work; written and oral communications skills (10%).

Selection Process

An initial administrative review of applications is conducted to determine compliance with requirements and completeness of applications. Only complete applications in compliance with the requirements will be considered for review. Applications identified as incomplete or not in compliance with the requirements will be destroyed. All applications that meet the requirements and are complete will be evaluated and scored individually in accordance with the assigned weights of the evaluation criteria by an independent peer review panel, comprised of Federal and nonfederal employees. No consensus advice or recommendations will be given. A numerical ranking will be assigned to each application based on the average of the panelist's ratings. The Program Officer will conduct a review of the rank order and make recommendations to the Selecting Official based on the panel ratings and the selection factors listed below. The Selecting Official, the Director of NOAA Education, will consider merit reviews and recommendations and award in rank order unless the application is justified to be selected out of rank order based on one or more of the following selection factors:

Selection Factors

In determining final awards, the selecting official reserves the right to consider the following selection factors:

1. Availability of funds.

2. Balance/distribution of funds:

a. Geographically.

b. By type of institutions.

c. Across academic disciplines.

3. Program-specific objectives.

4. Degree in scientific area and type of degree sought.

Repayment Requirement

A Hollings Scholarship recipient shall be required to repay the full amount of the scholarship to the National Oceanic and Atmospheric Administration if it is determined that the individual, in obtaining or using the scholarship, engaged in fraudulent conduct or failed to comply with any term or condition of the scholarship.

Cost Sharing Requirements

There are no cost-sharing requirements.

Intergovernmental Review

Applications under this program are not subject to Executive Order 12372, “Intergovernmental Review of Federal programs.”

Limitation of Liability

In no event will NOAA or the Department of Commerce be responsible for proposal preparation costs if this program is cancelled because of other agency priorities. Publication of this notice does not oblige NOAA to award any specific project or to obligate any available funds. Applicants are hereby given notice that funding for the Fiscal Year 2007 program is contingent upon the availability of Fiscal Year 2007 appropriations.

National Environmental Policy Act (NEPA)

As defined in sections 5.05 and Administrative or Programmatic Functions of NAO 216-6, 6.03.c.3, this is an undergraduate scholarship and internship program for which there are no cumulative effects. Thus, it has been categorically excluded from the need to prepare an Environmental Assessment.

Paperwork Reduction Act

Notwithstanding any other provision of the law, no person is required to respond to, nor shall any person be subject to a penalty for failure to comply with, a collection of information subject to the requirements of the Paperwork Reduction Act (PRA), unless that collection displays a currently valid Office of Management and Budget (OMB) control number. The Hollings Undergraduate Scholarship application form has been approved under OMB Control No. 1910-5125.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: January 17, 2007.
John J. Kelly, Jr.,
Deputy Undersecretary for Oceans and Atmosphere, U.S. Department of Commerce.

[FR Doc. E7-1010 Filed 1-23-07; 8:45 am]

BILLING CODE 3510-12-P